DEPARTMENT OF VETERANS AFFAIRS

38 CFR Part 21

RIN 2900-AL64

Increase in Rates Payable Under the Survivors' and Dependents' Educational Assistance Program

AGENCY: Department of Veterans Affairs.

ACTION: Final rule.

SUMMARY: This document amends the regulations governing rates of educational assistance payable under the Survivors' and Dependents' Educational Assistance (DEA) program to reflect increases required by statutory provisions. The rates of educational assistance payable under the DEA program are changed to show a 1.5% increase for fiscal year 2003 (October 1, 2002, through September 30, 2003) and a 2.2% increase for fiscal year 2004 (beginning October 1, 2003). In addition, the Veterans Benefits Act of 2003 provided an increase in the rates payable effective July 1, 2004. The amendments show the pay tables for the three rate increases identified above.

DATES: Effective Date: This final rule is effective October 25, 2004.

Applicability Dates: The changes in rates are applied to conform to the respective statutory requirements. For more information concerning the dates of applicability, see the SUPPLEMENTARY INFORMATION section.

FOR FURTHER INFORMATION CONTACT: Lynn M. Nelson, Education Advisor (225C), Education Service, Department of Veterans Affairs, Veterans Benefits Administration, 810 Vermont Ave. NW., Washington, DC 20420 (202) 273-7294.

SUPPLEMENTARY INFORMATION: Under the formula mandated by 38 U.S.C. 3564, the monthly rates of basic educational assistance payable under the Survivors' and Dependents' Educational Assistance (DEA) program must be adjusted each fiscal year. The regulations governing the rates of educational assistance payable under the DEA program for fiscal year (FY) 2003 (October 1, 2002, through September 30, 2003) are changed to reflect a 1.5% increase. The 1.5% increase is the percentage by which the total of the monthly Consumer Price Index-W (CPI-W) for July 1, 2001, through June 30, 2002, exceeds the total of the monthly CPI-W for July 1, 2000, through June 30, 2001.

The regulations are further amended to include the DEA rates payable during FY 2004. The FY 2004 rates reflect a 2.2% increase. The 2.2% increase is the percentage by which the total of the monthly CPI-W for July 1, 2002, through June 30, 2003, exceeds the total of the monthly CPI-W for July 1, 2001, through June 30, 2002.

In addition to the cost of living rate adjustments discussed above, Section 302 of the Veterans Benefits Act of 2003 (Pub. L. 108-183) provides an increase in the DEA rates effective July 1, 2004. A new paragraph (c) is added to Section 21.3131 to show the increased DEA rates effective July 1, 2004.

The changes set forth in this final rule are effective from the date of publication, but the changes in the rates for FY 2003 are effective October 1, 2002, the changes in the rates for FY 2004 are effective October 1, 2003, and the changes in rates provided for in Public Law 108-183 are effective July 1, 2004. This is in accordance with the applicable statutory provisions discussed above.

Administrative Procedure Act

Substantive changes made by this final rule merely reflect statutory requirements and adjustments made based on previously established formulas. Accordingly, there is a basis for dispensing with prior notice and comment and delayed effective date provisions of 5 U.S.C. 552 and 553.

Paperwork Reduction Act

This document contains no provisions constituting a collection of information under the Paperwork Reduction Act (44 U.S.C. 3501-3521).

Regulatory Flexibility Act

The initial and final regulatory flexibility analyses requirements of sections 603 and 604 of the Regulatory Flexibility Act, 5 U.S.C. 601-612, are not applicable to this rule, because the agency is not required to publish a notice of proposed rulemaking for this rule. Even so, the Secretary of Veterans Affairs hereby certifies that this final rule will not have a significant economic impact on a substantial number of small entities as they are defined in the Regulatory Flexibility Act. This final rule directly affects only individuals and does not directly affect small entities. Therefore, this final rule is also exempt pursuant to 5 U.S.C. 605(b) from the initial and final regulatory flexibility analyses requirements of sections 603 and 604.

Unfunded Mandates

The Unfunded Mandates Reform Act requires, at 2 U.S.C. 1232, that agencies prepare an assessment of anticipated costs and benefits before developing any rule that may result in an expenditure by State, local, or tribal governments, in the aggregate, or by the private sector, of $100 million or more in any given year. This rule will have no such effect on State, local or tribal governments, or the private sector.

Catalog of Federal Domestic Assistance Program Numbers

The Catalog of Federal Domestic Assistance number for the program affected by this final rule is 64.117.

List of Subjects in 38 CFR Part 21

Administrative practice and procedure, Armed Forces, Civil rights, Claims, Colleges and universities, Conflict of interests, Defense Department, Education, Employment, Grant programs-education, Grant programs-veterans, Health care, Loan programs-education, Loan programs-veterans, Manpower training programs, Reporting and recordkeeping requirements, Schools, Travel and transportation expenses, Veterans, Vocational education, Vocational rehabilitation.

Approved: August 23, 2004.
Anthony J. Principi,
Secretary of Veterans Affairs.

For the reasons set out in the preamble, 38 CFR part 21 (subpart C ) is amended as follows:

PART 21—VOCATIONAL REHABILITATION AND EDUCATION

Subpart C—Survivors' and Dependents' Educational Assistance Under 38 U.S.C. Chapter 35

1. The authority citation for part 21, subpart C, continues to read as follows:

Authority: 38 U.S.C. 501(a), 512, 3500-3566, unless otherwise noted.

2. In § 21.3045, paragraph (h) is revised to read as follows:

§ 21.3045 Entitlement charges.

* * * * *

(h) Entitlement charge for correspondence courses. The charge against entitlement of a spouse or surviving spouse for pursuit of a course exclusively by correspondence will be 1 month for each of the following amounts paid as an educational assistance allowance:

(1) $680.00 paid after September 30, 2002, and before October 1, 2003;

(2) $695.00 paid after September 30, 2003, and before July 1, 2004; and

(3) $788.00 paid after June 30, 2004.

* * * * *

3. In § 21.3046, paragraph (d)(4)(ii) is revised to read as follows

§ 21.3046 Periods of eligibility; spouses and surviving spouses.

* * * * *

(d) * * *

(4) * * *

(ii) The total additional amount of instruction that—

(A) $1,904 will provide during the period October 1, 2002, through September 30, 2003;

(B) $1,946 will provide during the period October 1, 2003, through June 30, 2004; or

(C) $2,206 will provide after June 30, 2004.

* * * * *

4. Section 21.3131 is amended by:

a. Revising paragraphs (a) and (b).

b. Redesignating paragraphs (c), (d), and (e) as paragraphs (d), (e), and (f), respectively.

c. Adding a new paragraph (c).

The revisions and addition reads as follows:

§ 21.3131 Rates—educational assistance allowance—38 U.S.C. chapter 35.

(a) Rates. Except as provided in § 21.3132, educational assistance allowance is payable at the following rates for pursuit of education or training that occurs after September 30, 2002, and before October 1, 2003:

Type of course | Monthly rate
Institutional:
Full time | $680.00.
¾ time | 511.00.
½ time | 340.00.
Less than ½ but more than ¼ time ¹ | 340.00.
¼ time or less ¹ | 170.00.
Cooperative training (other than farm cooperative) (Full time only) | 680.00.
Apprenticeship or on-the-job (full time only) ²:
First six months | 495.00.
Second six months | 370.00.
Third six months | 246.00.
Fourth six months and thereafter | 124.00.
Farm cooperative:
Full time | 549.00.
¾ time | 412.00.
½ time | 275.00.
Correspondence | 55 percent of the established charge for the number of lessons completed by the eligible spouse or surviving spouse and serviced by the school—Allowance paid quarterly. ³
¹ If an eligible person under 38 U.S.C. chapter 35 pursuing independent study on a less than one-half-time basis completes his or her program before the designated completion time, his or her award will be recomputed to permit payment of tuition and fees not to exceed $340.00 or $170.00, as appropriate, per month, if the maximum allowance is not initially authorized.
² See footnote 5 of § 21.4270(c) for measurement of full time and § 21.3132(c) for proportionate reduction in award for completion of less than 120 hours per month.
³ Established charge means the charge for the course or courses determined on the basis of the lowest extended time payment plan offered by the institution and approved by the appropriate State approving agency or the actual cost to the eligible spouse or surviving spouse, whichever is less. VA considers the continuity of an enrollment broken when there are more than 6 months between the servicing of the lessons.

(b) Rates. Except as provided in § 21.3132, educational assistance allowance is payable at the following rates for pursuit of education or training that occurs after September 30, 2003, and before July 1, 2004:

Type of course | Monthly rate
Institutional:
Full time | $695.00.
¾ time | 522.00.
½ time | 347.00
Less than ½ but more than ¼ time ¹ | 347.00.
¼ time or less ¹ | 173.75.
Cooperative training (other than farm cooperative) (Full time only) | 695.00.
Apprenticeship or on-the-job (full time only) ²:
First six months | 506.00.
Second six months | 378.00.
Third six months | 251.00.
Fourth six months and thereafter | 127.00.
Farm cooperative:
Full time | 561.00.
¾ time | 421.00.
½ time | 281.00.
Correspondence | 55 percent of the established charge for the number of lessons completed by the eligible spouse or surviving spouse and serviced by the school—Allowance paid quarterly. ³
¹ If an eligible person under 38 U.S.C. chapter 35 pursuing independent study on a less than one-half-time basis completes his or her program before the designated completion time, his or her award will be recomputed to permit payment of tuition and fees not to exceed $347.00 or $173.75, as appropriate, per month, if the maximum allowance is not initially authorized.
² See footnote 5 of § 21.4270(c) for measurement of full time and § 21.3132(c) for proportionate reduction in award for completion of less than 120 hours per month.
³ Established charge means the charge for the course or courses determined on the basis of the lowest extended time payment plan offered by the institution and approved by the appropriate State approving agency or the actual cost to the eligible spouse or surviving spouse, whichever is less. VA considers the continuity of an enrollment broken when there are more than 6 months between the servicing of the lessons.

(c) Rates. Except as provided in § 21.3132, educational assistance allowance is payable at the following rates for pursuit of education or training that occurs after June 30, 2004:

Type of course | Monthly rate
Institutional:
Full time | $788.00.
¾ time | 592.00.
½ time | 394.00.
Less than ½ but more than ¼ time ¹ | 394.00.
¼ time or less ¹ | 197.00.
Cooperative training (other than farm cooperative) (Full time only) | 788.00.
Apprenticeship or on-the-job (full time only) ²:
First six months | 574.00.
Second six months | 429.00.
Third six months | 285.00.
Fourth six months and thereafter | 144.00.
Farm cooperative:
Full time | 636.00.
¾ time | 477.00.
½ time | 319.00.
Correspondence | 55 percent of the established charge for the number of lessons completed by the eligible spouse or surviving spouse and serviced by the school—Allowance paid quarterly.³
¹ If an eligible person under 38 U.S.C. chapter 35 pursuing independent study on a less than one-half-time basis completes his or her program before the designated completion time, his or her award will be recomputed to permit payment of tuition and fees not to exceed $394.00 or $197.00, as appropriate, per month, if the maximum allowance is not initially authorized.
² See footnote 5 of § 21.4270(c) for measurement of full time and § 21.3132(c) for proportionate reduction in award for completion of less than 120 hours per month.
³ Established charge means the charge for the course or courses determined on the basis of the lowest extended time payment plan offered by the institution and approved by the appropriate State approving agency or the actual cost to the eligible spouse or surviving spouse, whichever is less. VA considers the continuity of an enrollment broken when there are more than 6 months between the servicing of the lessons.

(Authority: 38 U.S.C. 3532(a), 3542(a), 3687(b)(2), (d))

* * * * *

5. In § 21.3300, paragraph (c) is revised to read as follows:

§ 21.3300 Special restorative training.

* * * * *

(c) Duration of special restorative training. VA may provide special restorative training in excess of 45 months where an additional period of time is needed to complete the training. Entitlement, including any authorized in excess of 45 months, may be expended through an accelerated program requiring a rate of payment for tuition and fees in excess of—

(1) $213.00 a month for the period beginning October 1, 2002, and ending September 30, 2003;

(2) $218.00 a month for the period beginning October 1, 2003, and ending June 30, 2004; and

(3) $247.00 a month for months after June 30, 2004.

* * * * *

6. Section 21.3333 is amended by:

a. In paragraph (a)(1), removing “September 30, 2001, and before January 1, 2002.” and adding, in its place, “September 30, 2002, and before October 1, 2003:”.

b. In the rates table immediately following paragraph (a)(1), under the “Monthly rate” column, removing “$608.00” and adding, in its place, “$680.00'; and under the “Accelerated charges” column, removing “$190.00” each place it appears, and adding, in its place, “$213.00”.

c. In paragraph (a)(2), removing “December 31, 2001:” and adding, in its place, “September 30, 2003, and before July 1, 2004:”.

d. In the rates table immediately following paragraph (a)(2), under the “Monthly rate” column, removing “$670.00” and adding, in its place, “$695.00”; and under the “Accelerated charges” column, removing “$210.00” each place it appears, and adding, in its place, “$218.00”.

e. Adding a new paragraph (a)(3) immediately following the authority citation at the end of paragraph (a)(2) rates table.

f. Revising paragraph (b)(1).

The addition and revision reads as follows:

§ 21.3333 Rates.

(a) * * *

(3) For special restorative training that occurs after June 30, 2004:

Course | Monthly rate | Accelerated charges
Special restorative training | $788.00 | If costs for tuition and fees average in excess of $247.00 per month, rate may be increased by training such amount in excess of $247.00.

(Authority: 38 U.S.C. 3542)

(b) * * * (1) VA may pay the additional monthly rate if the parent or guardian concurs in having the eligible child's period of entitlement reduced by 1 day for each—

(i) $22.67 that the special training allowance exceeds the basic monthly rate of $680.00 for the period October 1, 2002, through September 30, 2003;

(ii) $23.17 that the special training allowance exceeds the basic monthly rate of $695.00 for the period October 1, 2003, through June 30, 2004; and

(iii) $26.27 that the special training allowance exceeds the basic monthly rate of $788.00 for months after June 30, 2004.

* * * * *

[FR Doc. 04-23755 Filed 10-22-04; 8:45 am]

BILLING CODE 8320-01-P